NATIONAL AERONAUTICS AND SPACE ADMINISTRATION

[Notice (02-120)]

Notice of Prospective Patent License

AGENCY: National Aeronautics and Space Administration.

ACTION: Notice of prospective patent license.

SUMMARY: NASA hereby gives notice that Polyumac Technology, Inc. of 1060 E. 30 Street, Hialeah, FL 33013, has applied for an exclusive license to practice the inventions described in: NASA Case No. LAR-15767-1, entitled Polyimide Precursor Solid Residuum,” for which a U.S. Patent 6,180,746 was issued to the United States of America as represented by the Administrator of the National Aeronautics and Space Administration; NASA Case No. LAR15977-1, entitled “Aromatic Polyimide Foam,” for which a U.S. Patent No. 6,133,330 was issued to the United States of America as represented by the Administrator of the National Aeronautics and Space Administration; NASA Case No. LAR15831-1, entitled “Hollow Polyimide Microspheres,” for which a U.S. Patent No. 5,994,418 was issued to the United States of America as represented by the Administrator of the National Aeronautics and Space Administration; NASA Case No. LAR-15831-2, entitled “Hollow Polyimide Microspheres,” for which a U.S. Patent No. 6,235,803 was issued to the United States of America as represented by the Administrator of the National Aeronautics and Space Administration; NASA Case No. LAR-15831-3, entitled “Hollow Polyimide Microspheres,” for which a U.S. Patent No. 6,084,000 was issued to the United States of America as represented by the Administrator of the National Aeronautics and Space Administration; NASA Case No. LAR-15745-1, entitled “Films, preimpregnated tapes and composites made from polyimide “Salt-like” solutions,” for which a U.S. Patent No. 6,222,007 was issued to the United States of America as represented by the Administrator of the National Aeronautics and Space filed and assigned to the United States of America as represented by the Administrator of the National Aeronautics and Space Administration. Written objections to the prospective grant of a license should be sent to Langley Research Center.

DATES: Responses to this notice must be received by October 21, 2002.

FOR FURTHER INFORMATION CONTACT: Patrick Roughen, Patent Attorney, Langley Research Center, Mail Stop 212, Hampton, VA 23681-2199, telephone (757) 864-9340; fax (757) 864-9190.

Dated: September 30, 2002.
Robert M. Stephens,
Deputy General Counsel.

[FR Doc. 02-25270 Filed 10-3-02; 8:45 am]

BILLING CODE 7510-02-P